DEPARTMENT OF HEALTH AND HUMAN SERVICES

Substance Abuse and Mental Health Services Administration

Change to a Fiscal Year (FY) 2001 Funding Opportunities Notice

AGENCY: Substance Abuse and Mental Health Services Administration (SAMHSA), Center for Mental Health Services (CMHS), DHHS.

ACTION: Change of notice in funding availability regarding the Substance Abuse and Mental Health Services Administration, Center for Mental Health Services Cooperative Agreement to Provide Minority Community Based HIV/AIDS Related Mental Health Treatment and Education Services.

SUMMARY: Public notice of funding availability for a cooperative agreement was given in the Federal Register on March 20, 2001 (Vol. 66, No. 54, pages 15731-15733). The Guidance for Applicants (GFA) No. SM-01-012, Cooperative Agreement to Provide Minority Community Based HIV/AIDS Related Mental Health Treatment and Education Services—short title, Minority HIV/AIDS Mental Health Services, contained 3 Initiatives. The main purpose or objective of the first Initiative was to expand service capacity targeted to meet unmet mental health treatment needs of individuals living with HIV/AIDS who are African American, Hispanic/Latino and/or from other racial/ethnic minority communities. The second Initiative focused on conducting HIV/AIDS and mental health education and training to African American, Hispanic/Latino and or other racial/ethnic minority communities who provide mental health care and emotional support in traditional and/or non-traditional settings. Selection of a coordinating center to assure the collection and analysis of process and descriptive information/data pertaining to common measures across the sites was the third purpose of the announcement.

In response to this GFA SAMHSA received a larger number of services applications that received high scores in peer review than had been anticipated. Since the intent of the overall GFA is primarily services, SAMHSA will be funding more of the services applications than originally planned and did not peer review or fund the training component, Initiative 2 of the announcement.

Dated: September 4, 2001.
Richard Kopanda,
Executive Officer, SAMHSA.

[FR Doc. 01-22810 Filed 9-10-01; 8:45 am]

BILLING CODE 4162-20-U